NATIONAL SCIENCE FOUNDATION

Interagency Arctic Research Policy Committee; Notice of Meeting

In accordance with the Arctic Research and Policy Act (Pub. L. 101-609, as amended), the National Science Foundation announces the following meeting:

Name: Interagency Arctic Research Policy Committee.

Date: April 27, 2007, 10 a.m. to 12 p.m.

Place: National Science Foundation, 4201 Wilson Boulevard, Room 1295, Arlington, VA.

FOR FURTHER INFORMATION CONTACT: Fae Korsmo, National Science Foundation, 4201 Wilson Boulevard, Arlington, VA 22230, (703) 292-8030.

Dated: April 17, 2007.
Suzanne H. Plimpton,
Reports Clearance Officer, National Science Foundation.

[FR Doc. E7-7501 Filed 4-19-07; 8:45 am]

BILLING CODE 7555-01-P